DEPARTMENT OF THE INTERIOR

National Park Service

[2031-A048-409]

Draft Environmental Impact Statement for General Management Plan, Blue Ridge Parkway, VA and NC

AGENCY: National Park Service, Interior.

ACTION: Notice of Availability of the Draft General Management Plan and Environmental Impact Statement.

SUMMARY: Pursuant to the National Environmental Policy Act of 1969, 42 U.S.C. 4332(2)(C), the National Park Service (NPS) announces the availability of a Draft Environmental Impact Statement (DEIS) for the General Management Plan (GMP) for Blue Ridge Parkway (parkway).

Consistent with NPS laws, regulations, and policies and the purpose of the parkway, the DEIS/GMP describes the NPS preferred alternative—Alternative B—to guide the management of the parkway over the next 20 years. The preferred alternative incorporates various management strategies to ensure protection, access, and enjoyment of the parkway's resources. The document analyzes the environmental impacts of the preferred alternative, along with two other alternatives, including the no-action alternative.

DATES: The NPS will accept comments from the public on the DEIS/GMP for at least 60 days, starting from the date the Environmental Protection Agency publishes the Notice of Availability. The date, time, and location of public meetings will be announced through the NPS Planning, Environment, and Public Comment (PEPC) Web site: http://parkplanning.nps.gov/BLRI and other media outlets.

ADDRESSES: Electronic copies of the draft DEIS/GMP will be available online at http://parkplanning.nps.gov/BLRI. To request a copy, contact Superintendent Phil Francis, Blue Ridge Parkway, 199 Hemphill Knob Road, Asheville, NC 28803.

Comments may be submitted by several methods. The preferred method is commenting via the internet on the PEPC website above. An electronic public comment form is provided on this website. You may also mail comments to Superintendent Phil Francis, Blue Ridge Parkway, 199 Hemphill Knob Road, Asheville, NC 28803. Finally, you may hand-deliver comments to the parkway. Before including your address, phone number, email address, or other personal identifying information in your comment, please be aware that your entire comment—including your personal identifying information—may be made publicly available at any time. While you can ask us in your comment to withhold your personal identifying information from public review, we cannot guarantee that we will be able to do so. We will always make submissions from organizations or businesses, and from individuals identifying themselves as representatives of or officials of organizations or businesses, available for public inspection in their entirety. A limited number of compact disks and printed copies of the DEIS/GMP will be made available at Blue Ridge Parkway Headquarter, 199 Hemphill Knob Road, Asheville, NC 28803.

SUPPLEMENTARY INFORMATION: Public meetings, newsletters, and internet updates have kept the public informed and involved throughout the planning process. The DEIS/GMP provides a framework for management, use, and development of the parkway for the next 20 years. It presents and analyzes three alternatives: Alternative A (no action) provides a baseline for evaluating changes and impacts of the two action alternatives. Alternative B is the NPS preferred alternative. The concept for management under alternative B emphasizes the original parkway design and traditional driving experience, while enhancing outdoor recreational opportunities and regional natural resource connectivity, and providing modest improvements to visitor services. In essence, the preferred alternative seeks to reinvest in the parkway's aging infrastructure, update inadequate visitor services and facilities, and protect a biologically diverse natural environment that is only surpassed by two other units in the national park system. Under Alternative C, the parkway would seek to significantly expand regional recreation opportunities, re-design campgrounds and other facilities to provide more modern visitor services, and focuses on partnerships to enhance regional natural resource connectivity. The three alternatives are described in detail in chapter 2 of the draft plan. The key impacts of implementing the three alternatives are detailed in chapter 4 and summarized in chapter 2.

Authority: The authority for publishing this notice is contained in 40 CFR 1506.6.

FOR FURTHER INFORMATION CONTACT: Superintendent Phil Francis, Blue Ridge Parkway, 199 Hemphill Knob Road, Asheville, NC 28803 or telephone at (828) 271-4779.

The responsible official for this Draft EIS is the Regional Director, NPS Southeast Region, 100 Alabama Street, SW., 1924 Building, Atlanta, Georgia 30303.

Dated: October 3, 2011.
Ben West,
Acting Regional Director, Southeast Region.

[FR Doc. 2011-26163 Filed 10-7-11; 8:45 am]

BILLING CODE P